DEPARTMENT OF HOUSING AND URBAN DEVELOPMENT

[Docket No. FR-5037-N-93]

Notice of Submission of Proposed Information Collection to OMB; Eligibility of a Nonprofit Corporation/Housing Consultant Certification

AGENCY: Office of the Chief Information Officer, HUD.

ACTION: Notice.

SUMMARY: The proposed information collection requirement described below has been submitted to the Office of Management and Budget (OMB) for review, as required by the Paperwork Reduction Act. The Department is soliciting public comments on the subject proposal.

Nonprofit organizations provide financial and other information so that HUD can determine that the sponsor and/or mortgagor is truly a nonprofit and demonstrates probably success in project development and continuing operation. A Housing Consultant hired by the nonprofit certifies to HUD that he/she has no other financial interest in the project and has no conflict of interest. The general contractor, subcontractors, equipment lessees, material and other suppliers, and management of the project certify to any direct or indirect contractual relationship they have with the sponsor or the mortgagor. HUD uses this information to assure compliance with regulations.

DATES: Comments Due Date: January 18, 2007.

ADDRESSES: Interested persons are invited to submit comments regarding this proposal. Comments should refer to the proposal by name and/or OMB approval Number (2502-0057) and should be sent to: HUD Desk Officer, Office of Management and Budget, New Executive Office Building, Washington, DC 20503; fax: 202-395-6974.

FOR FURTHER INFORMATION CONTACT: Lillian Deitzer, Departmental Reports Management Officer, QDAM, Department of Housing and Urban Development, 451 Seventh Street, SW., Washington, DC 20410; e-mail Lillian_L._Deitzer@HUD.gov or telephone (202) 708-2374. This is not a toll-free number. Copies of available documents submitted to OMB may be obtained from Ms. Deitzer or from HUD's website at http://hlannwp031.hud.gov/po/i/icbts/collectionsearch.cfm

SUPPLEMENTARY INFORMATION: This notice informs the public that the Department of Housing and Urban Development has submitted to OMB a request for approval of the information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title Of Proposal: Eligibility of a Nonprofit Corporation/Housing Consultant Certification.

OMB Approval Number: 2502-0057.

Form Numbers: HUD-3433, HUD-3434, HUD-3435, HUD-92531.

Description Of The Need For The Information And Its Proposed Use: Nonprofit organizations provide financial and other information so that HUD can determine that the sponsor and/or mortgagor is truly a nonprofit and demonstrates probably success in project development and continuing operation. A Housing Consulting hired by the nonprofit certifies to HUD that he/she has no other financial interest in the project and has no conflict of interest. The general contractor, subcontractors, equipment lessees, material and other suppliers, and management of the project certify to any direct or indirect contractual relationship they have with the sponsor or the mortgagor. HUD uses this information to assure compliance with regulations.

Frequency of Submission: On occasion.

| Nunber of respondents | Annual responses | × | Hours per response | = | Burden hours
Reporting Burden | 290 | 1.10 |  | 0.44 |  | 143

Total Estimated Burden Hours: 143.

Status: Extension of a currently approved collection.

Authority: Section 3507 of the Paperwork Reduction Act of 1995, 44 U.S.C. 35, as amended.

Dated: December 12, 2006.
Lillian L. Deitzer,
Departmental Paperwork Reduction Act Officer, Office of the Chief Information Officer.

[FR Doc. E6-21562 Filed 12-18-06; 8:45 am]

BILLING CODE 4210-667-P